DEPARTMENT OF HEALTH AND HUMAN SERVICES

Centers for Disease Control and Prevention

[60Day-12-0842]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects.

To request more information on the proposed projects or to obtain a copy of the data collection plans and instruments, call 404-639-7570 and send comments to Kimberly S. Lane, at CDC, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

STD surveillance Network (SSuN)—Division of STD Prevention (DSTDP); (OMB No. 0920-0842 Exp: 1/31/2013)—Revision—National Center for HIV/AIDS, Viral Hepatitis, STD, and TB Prevention (NCHHSTP), Centers for Disease Control and Prevention (CDC).

Background and Brief Description

The STD Surveillance Network (SSuN) project is an active STD sentinel surveillance network comprised of 12 surveillance sites including Alabama State Health Department, Baltimore City Health Department, Chicago City Health Department, Colorado State Health Department, Connecticut State Health Department, Los Angeles City Health Department, Louisiana State Health Department, New York City Health Department, Philadelphia city Health Department, San Francisco City Health Department, Virginia State Health Department, Washington State Health Department. The objectives of the SSuN Project are (1) to establish an integrated network of sentinel STD clinics and health departments to inform and guide national programs and policies for STD control in the U.S.; (2) to improve the capacity of national, state and local STD programs to detect, monitor and respond to established and emerging trends in STDs, HIV, and viral hepatitis; and (3) to identify and evaluate the effectiveness of public health interventions to reduce STD morbidity. This project collects data using two surveillance strategies; enhanced surveillance in participating STD clinics and enhanced gonorrhea surveillance on a random sample of persons diagnosed with gonorrhea in participating jurisdictions of these 12 local and state health departments.

For the clinic-based surveillance, participating sites have developed common protocols stipulating which data elements would be collected, including demographic, clinical, risk and sexual behaviors. The specified data elements are abstracted on a quarterly basis from existing electronic medical records for all patient visits to participating clinics and transmitted to CDC through a secured channel. Each SSuN site will spend 2 hours to transmit the data to CDC each quarter. At CDC, data will be aggregated with data from all participating sites in a common language and formatted for analysis.

For the population-based surveillance, a random sample of individuals reported with gonorrhea residing within participating jurisdictions are interviewed using locally designed interview templates. Enhanced data collection includes detailed information on demographic characteristics, behavioral risk factors and clinical history of persons with gonorrhea. Each of the 12 sites will interview 60 persons each quarter and each interview is expected to take about 8 minutes per person. Data for the population-based component will continue to be collected through telephone-administered or in-person interviews conducted by trained interviewers in the 12 SSuN sites. The survey results will be entered into the existing information systems at each health department and sent to CDC through a secure data network on a quarterly basis.

This information is being collected to establish (1) an integrated network of sentinel STD clinics and (2) state and local health departments to inform and guide national programs and policies for STD control in the US.

The Centers for Disease Control and Prevention request approval for a revision and a 3 year approval for the previously approved STD Surveillance Network (SSuN) project 0920-0842 (exp. 1/31/2013). The interview template has been revised to include four additional questions related to insurance status, but these changes will have minimal effect on the burden per respondent. Information on insurance and health care access are expected to have implications for program at the state/local and national level and can be used by state and local programs. Otherwise, the project activities and methods will remain the same as those used in the previously approved data collection period.

Participation of respondents is voluntary. There is no cost to the respondents other than their time.

There is no cost to the respondents other than their time.

Respondent | Number of respondents | Number of responses per respondent | Average burden per response (in hours) | Total burden (in hours)
STD Surveillance Clinics | 12 | 4 | 2 | 96
Gonorrhea patients | 2880 | 1 | 8/60 | 384
Total |  |  |  | 480

Kimberly S. Lane,
Deputy Director, Office of Science Integrity, Office of the Associate Director for Science, Office of the Director, Centers for Disease Control and Prevention.

[FR Doc. 2012-10325 Filed 4-27-12; 8:45 am]

BILLING CODE 4163-18-P